DEPARTMENT OF THE INTERIOR

Bureau of Reclamation

[RR02800000, 17XR0680A3, RX178689471000000]

Draft Environmental Impact Statement for the Shasta Dam Fish Passage Evaluation, California; Reopening of Comment Period

AGENCY: Bureau of Reclamation, Interior.

ACTION: Notice to reopen comment period.

SUMMARY: The Bureau of Reclamation (Reclamation) is reopening the public comment period on the scope of the draft environmental impact statement (EIS) for the Shasta Dam Fish Passage Evaluation.

DATES: The comment period for the scope of the draft EIS published June 15, 2017 (82 FR 27522), is reopened. Comments should be received on or before September 28, 2017.

ADDRESSES: You may send comments to Ms. Carolyn Bragg, Natural Resources Specialist, Bureau of Reclamation, Bay-Delta Office, 801 I Street, Suite 140, Sacramento, CA 95814-2536; or by email to cbragg@usbr.gov; or via facsimile to (916) 414-2439.

FOR FURTHER INFORMATION CONTACT: Carolyn Bragg, (916) 414-2433, or email at cbragg@usbr.gov.

SUPPLEMENTARY INFORMATION: On June 15, 2017, Reclamation published a notice in the Federal Register announcing its intent to prepare a draft EIS. Since then, Reclamation has received a formal request from the public requesting more time to comment on the scope of the draft EIS. This notice reopens that comment period for 30 days.

Public Disclosure

Before including your address, phone number, email address, or other personal identifying information in your comment, you should be aware that your entire comment—including your personal identifying information—may be made publicly available at any time. While you can ask us in your comment to withhold your personal identifying information from public review, we cannot guarantee that we will be able to do so.

Dated: July 27, 2017.
Travis B. Aberle,
Assistant Regional Director of Business Services.

[FR Doc. 2017-18267 Filed 8-28-17; 8:45 am]

BILLING CODE 4332-90-P